DEPARTMENT OF STATE

[Delegation of Authority No. 385]

Delegation of the Authority To Submit Reports

By virtue of the authority vested in the Secretary of State by Section 1 of the State Department Basic Authorities Act, as amended (22 U.S.C. 2651a) and the Presidential Memorandum of February 19, 2015, I hereby delegate to the Under Secretary for Arms Control and International Security, to the extent authorized by law, the authority to submit the recurring report required by Subsection 10(c) of the Ukraine Freedom Support Act of 2014, Public Law 113-272, regarding noncompliance of Russia with the Intermediate-Range Nuclear Forces Treaty.

Notwithstanding this delegation of authority, the authorities delegated herein may be exercised by the Secretary, the Deputy Secretary, or the Deputy Secretary for Management and Resources. Any reference in this delegation of authority to any statute or delegation of authority shall be deemed to be a reference to such statute or delegation of authority as amended from time to time.

This delegation of authority shall be published in the Federal Register.

Dated: June 1, 2015.
John F. Kerry,
Secretary of State.

[FR Doc. 2015-14799 Filed 6-15-15; 8:45 am]

BILLING CODE 4710-35-P